ENVIRONMENTAL PROTECTION AGENCY

[FRL-9235-1]

Proposed Settlement Agreement, Clean Air Act Citizen Suit

AGENCY: Environmental Protection Agency (EPA).

ACTION: Notice of Proposed Settlement Agreement; Request for Public Comment

SUMMARY: In accordance with section 113(g) of the Clean Air Act, as amended (“CAA” or the “Act”), 42 U.S.C. 7413(g), notice is hereby given of a proposed settlement agreement to address a lawsuit filed by the Louisiana Environmental Action Network in the United States District Court for the District of Columbia: Louisiana Environmental Action Network v. Jackson,. No 1:09-0133 (D. D.C.). On February 17, 2010, Plaintiff filed an amended complaint alleging that EPA failed to perform nondiscretionary duties under the Clean Air Act related to the attainment of National Ambient Air Quality Standards (NAAQS) for ozone in the Baton Rouge area. Specifically, they alleged that EPA failed to promulgate a Federal Implementation Plan to adopt regulations for the Baton Rouge area necessary to implement CAA requirements for ozone nonattainment areas that have been designated as “severe” nonattainment areas for the 1-hour ozone standard. The proposed settlement agreement establishes deadlines for EPA to take action on certain requirements related to the 1-hour and 1997 8-hour ozone standards.

DATES: Written comments on the proposed settlement agreements must be received by January 5, 2011.

ADDRESSES: Submit your comments, identified by Docket ID number EPA-HQ-OGC-2010-0971, online at http://www.regulations.gov (EPA's preferred method); by e-mail to oei.docket@epa.gov; by mail to EPA Docket Center, Environmental Protection Agency, Mailcode: 2822T, 1200 Pennsylvania Ave., NW., Washington, DC 20460-0001; or by hand delivery or courier to EPA Docket Center, EPA West, Room 3334, 1301 Constitution Ave., NW., Washington, DC, between 8:30 a.m. and 4:30 p.m. Monday through Friday, excluding legal holidays. Comments on a disk or CD-ROM should be formatted in Word or ASCII file, avoiding the use of special characters and any form of encryption, and may be mailed to the mailing address above.

FOR FURTHER INFORMATION CONTACT: Jan Tierney, Air and Radiation Law Office (2344A), Office of General Counsel, U.S. Environmental Protection Agency, 1200 Pennsylvania Ave., NW., Washington, DC 20460; telephone: (202) 564-5598; fax number (202) 564-5603; e-mail address: tierney.jan@epa.gov.

SUPPLEMENTARY INFORMATION:

I. Additional Information About the Proposed Settlement Agreement

The proposed settlement agreement would resolve a lawsuit seeking to compel the Agency to promulgate a Federal implementation plan addressing certain elements of a severe area 1-hour ozone SIP for Baton Rouge. In 2003, EPA reclassified the Baton Rouge area as a severe 1-hour ozone nonattainment area and established a schedule for Louisiana to submit SIP revisions to address the CAA's pollution control requirements for severe ozone nonattainment areas. The LDEQ submitted to EPA for approval certain SIP revisions relevant to severe 1-hour requirements for major sources in the Baton Rouge area, which included: (1) A June 15, 2005 submittal titled “Severe Area Rule Update,” (2) a December 20, 2005, submittal titled “New Source Review State Implementation Plan,” and (3) a November 9, 2007, submittal titled “General Rule Update.”

Under the proposed settlement agreement, if by February 28, 2012, EPA has not taken final action redesignating the Baton Rouge area to attainment for the 1997 8-hour ozone NAAQS, EPA will sign a notice to be published in the Federal Register, proposing action on (1) LDEQ's June 15, 2005 submittal titled “Severe Area Rule Update,” (2) LDEQ's December 20, 2005, submittal titled “New Source Review State Implementation Plan,” and (3) LDEQ's November 9, 2007, submittal titled “General Rule Update.” The proposed settlement also states that if by September 30, 2012, EPA has not taken final action redesignating the Baton Rouge area to attainment for the 1997 8-hour ozone NAAQS, EPA will sign a notice to be published in the Federal Register, taking final action on the three SIP submissions identified above. If EPA fulfills its obligations, the Parties shall jointly file with the Court in LEAN v. Jackson (civil action no. 1:09-01333) a motion pursuant to Fed. R. Civ. P. 41(a) to dismiss the case.

For a period of thirty (30) days following the date of publication of this notice, the Agency will accept written comments relating to the proposed settlement agreements from persons who were not named as parties or intervenors to the litigation in question. EPA or the Department of Justice may withdraw or withhold consent to the proposed settlement agreements if the comments disclose facts or considerations that indicate that such consent is inappropriate, improper, inadequate, or inconsistent with the requirements of the Act. Unless EPA or the Department of Justice determines that consent to these settlement agreements should be withdrawn, the terms of the agreements will be affirmed.

II. Additional Information About Commenting on the Proposed Settlement Agreements

A. How can I get a copy of the settlement agreements?

The official public docket for this action (identified by Docket ID No. EPA-HQ-OGC-2010-0971) contains copies of the proposed settlement agreements. The official public docket is available for public viewing at the Office of Environmental Information (OEI) Docket in the EPA Docket Center, EPA West, Room 3334, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through http://www.regulations.gov. You may use http://www.regulations.gov to submit or view public comments, access the index listing of the contents of the official public docket, and to access those documents in the public docket that are available electronically. Once in the system, key in the appropriate docket identification number then select “search”.

It is important to note that EPA's policy is that public comments, whether submitted electronically or on paper, will be made available for public viewing online at http://www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

B. How and to whom do I submit comments?

You may submit comments as provided in the ADDRESSES section. Please ensure that your comments are submitted within the specified comment period. Comments received after the close of the comment period will be marked “late.” EPA is not required to consider these late comments.

If you submit an electronic comment, EPA recommends that you include your name, mailing address, and an e-mail address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the http://www.regulations.gov Web site to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through http://www.regulations.gov, your e-mail address is automatically captured and included as part of the comment that is placed in the official public docket, and made available in EPA's electronic public docket.

Dated: November 29, 2010.
Richard B. Ossias,
Associate General Counsel.

[FR Doc. 2010-30492 Filed 12-3-10; 8:45 am]

BILLING CODE 6560-50-P